DEPARTMENT OF THE INTERIOR

Fish and Wildlife Service

Information Collection To Be Submitted to the Office of Management and Budget (OMB) for Approval Under the Paperwork Reduction Act; Incidental Take of Marine Mammals During Specified Activities Applications

AGENCY: Fish and Wildlife Service, Interior.

ACTION: Notice; request for comments.

SUMMARY: We, the U.S. Fish and Wildlife Service, will submit to OMB the collection of information described for approval under the provisions of the Paperwork Reduction Act of 1995. Copies of specific information collection requirements and explanatory material may be obtained by contacting our Information Collection Clearance Officer at the address or phone number listed below.

DATES: You must submit comments on or before June 29, 2004.

ADDRESSES: Your comments and suggestions on specific requirements should be sent to our Information Collection Clearance Officer, Anissa Craghead, U.S. Fish and Wildlife Service, 4401 N. Fairfax Dr., MS 222, Arlington, VA 22203, telephone 703/358-2445, fax 703/358-2269.

FOR FURTHER INFORMATION CONTACT: Diane Bowen, Division of Habitat and Resource Conservation, Branch of Resource Management Support Arlington, Virginia, at 703/358-2161, or Craig Perham, Office of Marine Mammals Management, Anchorage, Alaska, at 907/786-3810.

SUPPLEMENTARY INFORMATION: OMB regulations at 5 CFR part 1320, which implement provisions of the Paperwork Reduction Act of 1995 (44 U.S.C. 3501 et seq.), require that interested members of the public and affected agencies be given an opportunity to comment on information collection and record keeping activities (see 5 CFR 1320.8(d)). We are submitting a request to OMB to renew its approval of a collection of information concerning applications for the incidental take of marine mammals during specified activities. We are requesting a three-year term of approval for this information collection activity. Federal agencies may not conduct or sponsor, and a person is not required to respond to, a collection of information unless it displays a currently valid OMB control number. The OMB control number for this collection of information is 1018-0070.

Section 101(a)(5)(A) of the Marine Mammal Protection Act of 1972 authorizes us, acting on behalf of the Secretary of the Interior, to allow the incidental, unintentional take of small numbers of marine mammals during a specified activity (other than commercial fishing) in a specified geographic region. Prior to allowing these takes, however, we must find that the total of such taking will have a negligible impact on the species or stocks, and will not have an unmitigable adverse impact on the availability of the species or stocks for subsistence uses by Alaska Natives.

The information that we propose to collect will be used to evaluate applications for specific incidental take regulations from the oil and gas industry to determine whether such regulations, and subsequent Letters of Authorization (LOA), should be issued; the information is needed to establish the scope of specific incidental take regulations. The information is also required to evaluate the impacts of the activities on the species or stocks of the marine mammals and on their availability for subsistence uses by Alaska Natives. It will ensure that all available means for minimizing the incidental take associated with a specific activity are considered by applicants.

We estimate that the total annual burden associated with the request will be 2,027 hours (6,080 divided by 3). This represents an average annual estimated burden taken over a 3 year-period, which includes the initial 200 hours required to complete the request for specific procedural regulations (68 FR 66744). For each LOA expected to be requested and issued subsequent to issuance of specific procedural regulations, we estimate that 28 hours per project will be invested: 8 hours will be required to complete each request for a LOA, 12 hours will be required for on-site monitoring activities, and 8 hours will be required to complete each final monitoring report. We estimate that ten companies will be requesting LOAs and submitting monitoring reports annually for each of seven sites in the region covered by the specific regulations.

Title: Marine Mammals: Incidental Take of Marine Mammals During Specified Activities Applications, 50 CFR 18, Subpart J.

OMB Number: 1018-0070.

Bureau form number: None.

Frequency of collection: Semi-annually.

Description of respondents: Oil and gas industry companies.

Total Annual Responses: 140 (2 per project × 70 projects).

Total Annual Burden Hours: 2,027.

Your comments are invited on: (1) Whether this collection of information is necessary for us to properly perform our functions, including whether this information will have practical utility; (2) the accuracy of our estimate of burden, including the validity of the methodology and assumptions we use; (3) ways to enhance the quality, utility, and clarity of the information we are proposing to collect; and (4) ways to minimize the burden of the collection of information on those who are to respond, including through the use of appropriate automated, electronic, mechanical, or other technological collection techniques or other forms of information technology.

Dated: April 26, 2004.
Anissa Craghead,
Information Collection Officer, Fish and Wildlife Service.

[FR Doc. 04-9786 Filed 4-29-04; 8:45 am]

BILLING CODE 4310-55-P